FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 20, 2005.

A. Federal Reserve Bank of Richmond (A. Linwood Gill, III, Vice President) 701 East Byrd Street, Richmond, Virginia 23261-4528:

1. Mason Young Garrett and Mary Beth Garrett, both of Belton, South Carolina; to acquire voting shares of GrandSouth Bancorporation, Greenville, South Carolina, and thereby indirectly acquire voting shares of GrandSouth Bank, Greenville, South Carolina.

B. Federal Reserve Bank of Atlanta (Andre Anderson, Vice President) 1000 Peachtree Street, NE., Atlanta, Georgia 30303:

1. Brian K. James, individually and as trustee of the James Educational Trust, Destin, Florida; to acquire voting shares of Bonifay Holding Company, and thereby indirectly acquire voting shares of The Bank of Bonifay, both of Bonifay, Florida.

Board of Governors of the Federal Reserve System, September 30, 2005.
Robert deV. Frierson,
Deputy Secretary of the Board.

[FR Doc. E5-5446 Filed 10-4-05; 8:45 am]

BILLING CODE 6210-01-S